INTERNATIONAL TRADE COMMISSION

[USITC SE-04-005]

Sunshine Act Meeting

Agency Holding the Meeting: United States International Trade Commission.

Original Date: July 13, 2004.

Original Time: 11 a.m.

New Date: July 15, 2004.

New Time: 11 a.m.

Place: Room 101, 500 E Street SW., Washington, DC 20436, Telephone: (202) 205-2000.

Status: Open to the public.

In accordance with 19 CFR 201.35(d)(1), the Commission has determined to change the day and time for the meeting of 11 a.m., July 13, 2004 to 11 a.m., July 15, 2004.

Issued: July 9, 2004.
By order of the Commission.
Marilyn R. Abbott,
Secretary to the Commission.

[FR Doc. 04-15976 Filed 7-9-04; 2:36 pm]

BILLING CODE 7020-02-P